DEPARTMENT OF ENERGY

Federal Energy Regulatory Commission

Notice of Commission Staff Attendance

The Federal Energy Regulatory Commission (Commission) hereby gives notice that members of the Commission's staff may attend the following meeting related to the transmission planning activities of the South Carolina Regional Transmission Planning (SCRTP) group:

SCRTP Stakeholder Group

June 13, 2013.

The above-referenced meeting is open to stakeholders and will be held via Web conference.

For additional information, see www.scrtp.com.

The discussions at the meeting described above may address matters at issue in the following proceedings:

Docket No. ER13-107-000, ER13-107-001 and ER13-107-002, South Carolina Electric & Gas Company

For More Information Contact: Michael Lee, Office of Energy Market Regulation, Federal Energy Regulatory Commission at (202) 502-8658 or Michael.Lee@ferc.gov.

Dated: June 11, 2013.
Kimberly D. Bose,
Secretary.

[FR Doc. 2013-14272 Filed 6-14-13; 8:45 am]

BILLING CODE 6717-01-P